DEPARTMENT OF THE INTERIOR

Fish and Wildlife Service

Mayer Family Habitat Conservation Plan, Santa Cruz County, California

AGENCY: Fish and Wildlife Service, Interior.

ACTION: Notice of Availability.

SUMMARY: Geoffrey and Susan Mayer (Applicants) have applied to the Fish and Wildlife Service (Service) for an Incidental Take Permit pursuant to section 10(a)(1)(B) of the Endangered Species Act of 1973, as amended (Act). The proposed permit would authorize take of the federally endangered Mount Hermon June beetle (Polyphylla barbata) incidental to otherwise lawful activities associated with the development of a 0.35-acre parcel (project site) near the City of Scotts Valley, Santa Cruz County, California. The Applicants have requested that the federally endangered Ben Lomond spineflower (Chorizanthe pungens var. hartwegiana) be included as a covered species on the permit.

We request comments from the public on the permit application, which is available for review. The application includes a Low-Effect Habitat Conservation Plan (HCP), that fully describes the proposed project and the measures that the Applicants would undertake to minimize and mitigate anticipated take of the Mount Hermon June beetle, as required in Section 10(a)(2)(B) of the Act. The HCP also addresses and adverse effects to the Ben Lomond spineflower.

We also request comments on our preliminary determination that the HCP qualifies as a “low-effect” plan, eligible for a categorical exclusion under the National Environmental Policy Act. The basis for this determination is discussed in an Environmental Action Statement, which is also available for public review.

DATES: Written comments must be received no later than April 22, 2002.

ADDRESSES: Written comments should be addressed to Diane Noda, Field Supervisor, Ventura Fish and Wildlife Office, 2493 Portola Road, Ventura, California 93003. Comments may also be sent by facsimile to (805) 644-3958.

FOR FURTHER INFORMATION CONTACT: Colleen Sculley, Fish and Wildlife Biologist, at the above address or by calling (805) 644-1766.

SUPPLEMENTARY INFORMATION:

Document Availability

Please contact the above office if you would like copies of the application, HCP, and Environmental Action Statement. Documents also will be available for review by appointment, during normal business hours at the above address.

Background

Section 9 of the Act and Federal regulation prohibit the “take” of fish or wildlife species listed as endangered or threatened, respectively. Take of listed fish or wildlife is defined under the Act to mean harass, harm, pursue, hunt, shoot, wound, kill, trap, capture, or collect, or to attempt to engage in any such conduct. However, the Service, under limited circumstances, may issue permits to authorize incidental take; i.e., take that is incidental to, and not the purpose of, the carrying out of an otherwise lawful activity. Regulations governing incidental take permits for threatened and endangered species are found at 50 CFR 17.32 and 17.22, respectively. The taking prohibitions of the Act do not apply to federally listed plants on private lands unless such take would violate State law. Among other criteria, issuance of such permits must not jeopardize the existence of federally listed fish, wildlife, or plants. For these reasons, the Applicants have chosen to address the state and federally listed Ben Lomond spineflower in their HCP.

The Applicants propose to construct a single-family dwelling and associated infrastructure, including driveways, sidewalks, retaining walls, lap pool, patio, and a concrete ditch, on a 0.35-acre parcel. The project site is located at 275 Bob's Lane in a residential neighborhood referred to as Whispering Pines in an unincorporated area of the County of Santa Cruz near the southwest boundary of the City of Scotts Valley. Zoning for this parcel and the surrounding residential neighborhood is R-1-10, indicating that one single-family residence is allowed on a minimum lot size of 10,000 square feet. Most of the Whispering Pines neighborhood has been built out, with less than 30 lots remaining empty. The southwest and southeast boundaries of the parcel are bordered by existing homes, the northeast boundary borders Bobs Lane, and the northwest boundary borders an existing sand quarry. The project site is currently undeveloped and vegetated with a mixture of native and non-native species including ponderosa pine seedlings (Pinus ponderosa), live oaks (Quercus agrifolia and Q. wislizenii), liquidambars (Liquidambar sp.), silverleaf manzanita (Arctostaphylos silvicola), cultivated grapes (Vitis sp.), bracken fern (Pteridium aquilinum var. pubescens), and non-native grasses.

In 2000, biologists conducted surveys for special status plants and wildlife on the project site. Twenty-two adult males of the Mount Hermon June beetle were captured on the project site during one night of surveys. The Ben Lomond spineflower was observed growing in two areas totaling 1,406 square feet on the project site. Based on these surveys, the Service concluded that the development of the project site likely would result in take of the Mount Hermon June beetle, and adverse effects to the Ben Lomond spineflower.

The Applicants propose to implement measures to minimize and mitigate for the removal of suitable habitat for the Mount Hermon June beetle and Ben Lomond spineflower from the project site. Specifically, they propose to (1) protect in perpetuity a one-acre mitigation parcel occupied by the Mount Hermon June beetle and Ben Lomond spineflower at an off-site location via a recorded conservation easement with the Center for Natural Lands Management (CNLM); (2) provide funding for management and monitoring of the mitigation site in perpetuity in a manner that supports habitat for the Mount Hermon June beetle and Ben Lomond spineflower; and (3) undertake various measures during grading and construction activities at the project site to minimize impacts to both endangered species and their habitat.

The Service's Proposed Action consists of the issuance of an incidental take permit and implementation of the HCP, which includes measures to minimize and mitigate impacts of the project on the Mount Hermon June beetle and Ben Lomond spineflower. Two alternatives to the taking of listed species under the Proposed Action are considered in the HCP. Under the No-Action alternative the project site would not be developed and the HCP would not be implemented. Without the HCP, habitat for the Ben Lomond spineflower and Mount Hermon June beetle on the project site likely would decline further as a result of threats from existing development surrounding the site. Furthermore, no off-site habitat would be protected for the benefit of the Mount Hermon June beetle and Ben Lomond spineflower. This alternative would also result in an unnecessary economic burden on the Mayer family.

Under the Redesigned Project alternative, the development footprint for the project would be reduced or relocated to another portion of the site, thus reducing or altering the area of destroyed habitat for the Mount Hermon June beetle and Ben Lomond spineflower. Given the small size of the project site (0.35 acres), a reduction in the development envelope would not significantly improve conditions for the Mount Hermon June beetle and Ben Lomond spineflower on the site. Adverse impacts from construction, on-going use of the site, and from surrounding residential development would threaten both species, regardless of the size or type of development that occurs on the project site. As the lot is small in size, and narrow and rectangular in shape, relocation of the house and associated infrastructure is not practical. This alternative would also result in an unnecessary economic burden on the Mayer family.

The Service has made a preliminary determination that the HCP qualifies as a “low-effect” plan as defined by its Habitat Conservation Planning Handbook (November 1996). Our determination that a habitat conservation plan qualifies as a low-effect plan is based on the following three criteria: (1) Implementation of the plan would result in minor or negligible effects on federally listed, proposed, and candidate species and their habitats; (2) implementation of the plan would result in minor or negligible effects on other environmental values or resources; and (3) impacts of the plan, considered together with the impacts of other past, present and reasonably foreseeable similarly situated projects would not result, over time, in cumulative effects to environmental values or resources which would be considered significant. As more fully explained in our Environmental Action Statement, the Applicants' proposal to construct a single-family residence qualifies as a “low-effect” plan for the following reasons:

1. Approval of the HCP would result in minor or negligible effects on the Ben Lomond spineflower and Mount Hermon June beetle and its habitat. The Service does not anticipate significant direct or cumulative effects to the Mount Hermon June beetle or Ben Lomond spineflower resulting from development of the project site.

2. Approval of the HCP would not have adverse effects on unique geographic, historic or cultural sites, or involve unique or unknown environmental risks.

3. Approval of the HCP would not result in any cumulative or growth inducing impacts and, therefore, would not result in significant adverse effects on public health or safety.

4. The project does not require compliance with Executive Order 11988 (Floodplain Management), Executive Order 11990 (Protection of Wetlands), or the Fish and Wildlife Coordination Act, nor does it threaten to violate a Federal, State, local or tribal law or requirement imposed for the protection of the environment.

5. Approval of the HCP would not establish a precedent for future actions or represent a decision in principle about future actions with potentially significant environmental effects.

The Service therefore has made a preliminary determination that approval of the HCP qualifies as a categorical exclusion under the National Environmental Policy Act, as provided by the Department of the Interior Manual (516 DM 2, Appendix 1 and 516 DM 6, Appendix 1). Based upon this preliminary determination, we do not intend to prepare further National Environmental Policy Act documentation. The Service will consider public comments in making its final determination on whether to prepare such additional documentation.

The Service provides this notice pursuant to section 10(c) of the Endangered Species Act. We will evaluate the permit application, the HCP, and comments submitted thereon to determine whether the application meets the requirements of section 10 (a) of the Act. If the requirements are met, the Service will issue a permit to the Mayers. We will make the final permit decision no sooner than 30 days from the date of this notice.

Dated: March 15, 2002.
D. Kenneth McDermond,
Deputy Manager, California/Nevada Operations Office, Sacramento, California.

[FR Doc. 02-6927 Filed 3-21-02; 8:45 am]

BILLING CODE 4310-55-P